DEPARTMENT OF COMMERCE

National Oceanic and Atmospheric Administration

Science Advisory Board; Meeting

AGENCY: National Oceanic and Atmospheric Administration (NOAA), Department of Commerce (DOC).

ACTION: Notice of public meetings.

SUMMARY: This notice sets forth the schedule and proposed agenda for the meeting of the Science Advisory Board (SAB). The members will discuss issues outlined in the section on Matters to be considered.

DATES: The meeting is scheduled for July 22, 2020 from 1:00 p.m. to 5:00 p.m. Eastern Standard Time (EST) and July 23, 2020 from 1:00 p.m. to 5:00 p.m. EST. This time and the agenda topics described below are subject to change.

For the latest agenda please refer to the SAB website: http://sab.noaa.gov/SABMeetings.aspx.

ADDRESSES: This is a virtual meeting. The link for the webinar registration for the July 22-23, 2020 meeting may be found here:

July 22, 2020: https://attendee.gotowebinar.com/register/2922353879931912972.

July 23, 2020: https://attendee.gotowebinar.com/register/1952615410559086604.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The July 22-23, 2020 meeting will be open to public participation with a 15-minute public comment period at 4:45-5:00 p.m. EST on Wednesday, July 22. The SAB expects that public statements presented at its meetings will not be repetitive of previously submitted verbal or written statements. In general, each individual or group making a verbal presentation will be limited to a total time of three minutes. Written comments for the July 22-23, 2020 meeting should be received in the SAB Executive Director's Office by July 7, 2020 to provide sufficient time for SAB review. Written comments received by the SAB Executive Director after this date will be distributed to the SAB, but may not be reviewed prior to the meeting date.

Special Accommodations: This meeting is physically accessible to people with disabilities. Requests for special accommodations may be directed to the Executive Director no later than 12 p.m. on July 7, 2020.

Matters to be Considered: The meeting on July 22-23, 2020 will include:(1) NOAA Updates; (2) Environmental Information Services Working Group Report to Congress; (3) Update on the SAB Tsunami Science and Technology Advisory Panel; (4) SAB Work Plan and NOAA Priorities; (5) NOAA Response to the Climate Working Group Review of the Climate Program Office Climate and Global Change Post-Doctoral Program; (6) Decision Making under Deep Uncertainty: Update from the Ecosystem Management and Sciences Working Group;.(7) Review of the Northern Gulf Institute Cooperative Institute. Meeting materials, including work products, will be made available on the SAB website: http://sab.noaa.gov/SABMeetings.aspx.

Dated: June 25, 2020.
David Holst,
Director Chief Financial Officer/CAO,Office of Oceanic and Atmospheric Research,National Oceanic and Atmospheric Administration.

[FR Doc. 2020-14175 Filed 6-30-20; 8:45 am]

BILLING CODE 3510-KD-P